DEPARTMENT OF HEALTH AND HUMAN SERVICES

Centers for Disease Control and Prevention

Disease, Disability, and Injury Prevention and Control Special Emphasis Panel (SEP)—CE25-025, Rigorous Evaluation of Community- and Societal-Level Primary Prevention Approaches To Prevent Adverse Childhood Experiences (ACEs): Expanding the Best Available Evidence; Amended Notice of Closed Meeting

AGENCY: Centers for Disease Control and Prevention, Department of Health and Human Services.

ACTION: Notice.

FOR FURTHER INFORMATION CONTACT: Aisha L. Wilkes, M.P.H., Scientific Review Officer, National Center for Injury Prevention and Control, Centers for Disease Control and Prevention, 4770 Buford Highway NE, Mailstop S106-9, Atlanta, Georgia 30341. Telephone: (770) 488-1504; Email: AWilkes@cdc.gov.

SUPPLEMENTARY INFORMATION: Notice is hereby given of a change in the meeting of the Disease, Disability, and Injury Prevention and Control Special Emphasis Panel (SEP)—CE25-025, Rigorous Evaluation of Community- and Societal-Level Primary Prevention Approaches To Prevent Adverse Childhood Experiences (ACEs): Expanding the Best Available Evidence; February 25-26, 2025, 10 a.m.-5 p.m., EST, web conference, in the original Federal Register notice. The meeting notice was published in the Federal Register on November 27, 2024, 89 FR 93606 and 93607.

This meeting notice is being amended to change the meeting dates from a two-day meeting to a one-day meeting. The notice should read as follows:

Name of Committee: Disease, Disability, and Injury Prevention and Control Special Emphasis Panel (SEP)—CE25-025, Rigorous Evaluation of Community- and Societal-Level Primary Prevention Approaches To Prevent Adverse Childhood Experiences (ACEs): Expanding the Best Available Evidence.

Date: February 25, 2025.

Time: 10 a.m.-5 p.m., EST.

The meeting is closed to the public.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2025-00856 Filed 1-15-25; 8:45 am]

BILLING CODE 4163-18-P